DEPARTMENT OF THE INTERIOR

[2253-665]

National Park Service

Notice of Intent To Repatriate Cultural Items: Washington State University, Museum of Anthropology, Pullman, WA

AGENCY: National Park Service, Interior.

ACTION: Notice.

SUMMARY: The Washington State University, Museum of Anthropology (WSU), in consultation with the appropriate Indian tribes, has determined that the cultural items meet the definition of unassociated funerary objects and repatriation to the Indian tribes stated below may occur if no additional claimants come forward. Representatives of any Indian tribe that believes itself to be culturally affiliated with the cultural items may contact WSU.

DATES: Representatives of any Indian tribe that believes it has a cultural affiliation with the cultural items should contact WSU at the address below by December 29, 2011.

ADDRESSES: Mary Collins, Director, Washington State University, Museum of Anthropology, Pullman, WA 99164-4910, telephone (509) 335-4314.

SUPPLEMENTARY INFORMATION: Notice is here given in accordance with the Native American Graves Protection and Repatriation Act (NAGPRA), 25 U.S.C. 3005, of the intent to repatriate cultural items in the possession of WSU that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the 1960s, WSU transferred its ethnographic collection from the Conner Museum to the Museum of Anthropology. In June of 2011, the curator of collections at the Conner Museum found four unassociated funerary items in the museum storage area and transferred them to the Museum of Anthropology. The items include two brass bracelets, one necklace of brass and shell beads, and one antler digging stick handle. Of the four objects, the digging stick handle was the only item with documentation; it has a label indicating it was accessioned into the Conner Museum in 1924. All of the items show clear evidence of having been buried for some period of time and all are object types common to historic and proto-historic period burials along the Lower Snake River region of Washington State.

Beginning in the 1960s, Roderick Sprague, Professor Emeritus at the University of Idaho, began assembling a comparative collection of trade beads from archeological (mostly burial) sites along the Lower Snake River. In 2003, Dr. Sprague turned the collection over to the Museum of Anthropology. Most of the specimens in the collection were identified as to their site of origin; however, there are 66 lots of glass and metal bead specimens which have lost their site provenience labels and are assumed to have come from burial sites along the Lower Snake River.

In 2003, seven items were found at WSU, stored with the materials from 45AS9, and were determined to be from an unknown site. The seven items include: 1 button, 1 natural stone, 1 metal nut, 1 lot of glass beads, and 3 lots of shell beads. The exact site provenience of these items is not known, nor is it known when the items were acquired by WSU. Only one of the items, the natural stone, is labeled as having a burial association; however, the items resemble funerary objects commonly found in burials on the Lower Snake River.

In 1992, while performing an inventory and rehabilitation of the archeological collection from site 45FR40, a number of items labeled as coming from burial associations were identified. The records of the 1957 excavation at the site do not report any burial excavations and so it was determined that the site provenience of these items is unknown. The 16 cultural items include 1 button, 8 unidentified historic items, 1 lot of animal fur, 2 lots of plant remains, 1 lot of bone beads, 1 lot of stone beads, 1 lot of bag residue, and 1 lot of mammal remains. Although the exact site provenience is not known, it is believed that given the storage association with site 45FR40 and the history of excavations at other sites along the Lower Snake River during the 1950s through 1970s these items probably come from a burial site along the Lower Snake River.

The Lower Snake River region of southeastern WA is known to have included parts of the traditional territories of a number of Native American groups whose descendents now comprise members of the Confederated Tribes of the Colville Reservation, Washington; Nez Perce Tribe, Idaho; Confederated Tribes of the Umatilla Reservation, Oregon; Confederated Tribes of the Warm Springs Reservation of Oregon, Confederated Tribes and Bands of the Yakama Nation, Washington (hereinafter referred to as “The Tribes”); and the Wanapum Band, a non-Federally recognized Indian group (hereinafter referred to as “The Indian Group”).

Determinations Made by Washington State University, Department of Anthropology

Officials of WSU have determined that:

• Pursuant to 25 U.S.C. 3001(3)(B), the 93 items described above are reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the unassociated funerary objects, The Tribes, and The Indian Group.

Additional Requestors and Disposition

Representatives of any other Indian tribe that believes itself to be culturally affiliated with the cultural items should contact Mary Collins, Director of the Museum of Anthropology at Washington State University, Pullman, WA 99163, (509) 335-4314, before December 29, 2011. Repatriation of the 93 unassociated funerary objects to The Tribes and The Indian Group may proceed after that date if no additional claimants come forward.

The Washington State University, Museum of Anthropology is responsible for notifying The Tribes and The Indian Group that this notice has been published.

Dated: November 22, 2011.
Sherry Hutt,
Manager, National NAGPRA Program.

[FR Doc. 2011-30624 Filed 11-28-11; 8:45 am]

BILLING CODE 4312-50-P